NUCLEAR REGULATORY COMMISSION

[Docket Nos. 52-040 and 52-041; NRC-2009-0337]

Combined License Application for Turkey Point Nuclear Plant, Units 6 and 7

AGENCY: Nuclear Regulatory Commission.

ACTION: Final environmental impact statement; issuance.

SUMMARY: The U.S. Nuclear Regulatory Commission (NRC) and the U.S. Army Corps of Engineers (USACE), Jacksonville District, are issuing the final environmental impact statement (EIS), NUREG-2176, “Environmental Impact Statement for Combined Licenses (COLs) for Turkey Point Nuclear Plant, Units 6 and 7,” to support the environmental review for the combined license application Florida Power and Light Company (FPL) submitted an application for COLs to construct and operate two new nuclear power plants at its Turkey Point site near Homestead, Florida.

DATES: The final EIS is available as of October 28, 2016.

ADDRESSES: Please refer to Docket ID NRC-2009-0337, when contacting the NRC about the availability of information regarding this document. You may obtain publicly-available information related to this action by the following methods:

• Federal Rulemaking Web site: Go to http://www.regulations.gov and search for Docket ID NRC-2009-0337. Address questions about NRC dockets to Carol Gallagher; telephone: 301-415-3463; email: Carol.Gallagher@nrc.gov. For technical questions, contact the individual listed in the FOR FURTHER INFORMATION CONTACT section of this document.

• NRC'S Agencywide Documents Access and Management System (ADAMS): You may obtain publicly-available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. The final EIS is available in ADAMS under Accession Nos. ML16300A104, ML16300A137, ML16301A018, and ML16300A312, respectively.

• NRC's PDR: You may examine and purchase copies of public documents at the NRC's PDR, Room O1-F21, One White Flint North, 11555 Rockville Pike, Rockville, Maryland 20852.

• Project Web site: The final EIS can be accessed online at the Turkey Point COL specific Web page at http://www.nrc.gov/reactors/new-reactors/col/turkey-point.html.

• South Dade Regional Library and Homestead Branch Library: The final EIS is available for public inspection at 10750 SW 211th Street, Cutler Bay, Florida 33189; 700 N. Homestead Blvd., Homestead, Florida 33030.

FOR FURTHER INFORMATION CONTACT: Alicia Williamson Dickerson, Office of New Reactors, U.S. Nuclear Regulatory Commission, Washington, DC 20555-0001, telephone: 301-415-1878, email: Alicia.Williamson@nrc.gov.

SUPPLEMENTARY INFORMATION:

I. Background

In accordance with section 51.118 of title 10 of the Code of Federal Regulations, the NRC is issuing NUREG-2176, “Environmental Impact Statement for Combined Licenses (COLs) for Turkey Point Nuclear Plant, Units 6 and 7.” A notice of availability of the draft EIS was published by the NRC in the Federal Register on March 5, 2015 (80 FR 12043) and also noticed by the U.S. Environmental Protection Agency on March 6, 2015 (80 FR 12172). The public comment period closed on May 22, 2015. During the course of the comment period, the NRC received requests from members of the public, a Tribal government and Federal agencies to extend the comment period. The NRC reopened the comment period on the draft EIS from May 28, 2015, until July 17, 2015 (80 FR 30501); public comments are addressed in Appendix E in the final EIS. The final EIS is available for public inspection as indicated in the ADDRESSES section of this document.

The final EIS also supports the USACE's review and was prepared in accordance with the National Environmental Policy Act of 1969, as amended. The final EIS also supports the Department of the Army's permit application for certain construction activities at the proposed Turkey Point, Units 6 and 7 site. The USACE's Department of the Army permit application number for Turkey Point, Units 6 and 7 project is (SAJ-2009-02417). The USACE's Public Interest Review will be part of its Record of Decision and is not addressed in the final EIS.

II. Discussion

As discussed in the final EIS, the NRC staff's recommendation related to the environmental aspects of the proposed action is that the COLs should be issued. This recommendation is based on: (1) The Environmental Report (ER) submitted by FPL, as revised; (2) consultation with Federal, State, Tribal, and local agencies; (3) the NRC staff's independent review; (4) the NRC staff's consideration of comments received during the environmental review; and (5) the assessments summarized in the final EIS, including the potential mitigation measures identified in the ER and in the final EIS. In addition, in making its recommendation, the NRC staff has concluded that there are no environmentally preferable or obviously superior sites in the region of interest.

Dated at Rockville, Maryland, this 27th day of October, 2016.
For the Nuclear Regulatory Commission.
Francis M. Akstulewicz,
Director, Division of New Reactor Licensing, Office of New Reactors.

[FR Doc. 2016-26456 Filed 11-1-16; 8:45 am]

BILLING CODE 7590-01-P